SMALL BUSINESS ADMINISTRATION

[Declaration of Disaster #3362]

State of Tennessee; Amendment #1

In accordance with a notice received from the Federal Emergency Management Agency, dated August 27, 2001, the above numbered declaration is hereby amended to include Shelby County, Tennessee as a disaster area due to damages caused by severe storms and flooding that occurred on July 27, 2001 and continued through August 22, 2001.

In addition, applications for economic injury loans from small businesses located in the following contiguous counties may be filed until the specified date at the previously designated location: Fayette and Tipton counties in Tennessee; Crittenden County in Arkansas; and DeSoto and Marshall counties in Mississippi. All other contiguous counties have been previously declared.

For economic injury the number is 9M4700 for Arkansas and 9M4800 for Mississippi.

All other information remains the same, i.e., the deadline for filing applications for physical damage is October 15, 2001, and for loans for economic injury the deadline is May 16, 2002.

(Catalog of Federal Domestic Assistance Program Nos. 59002 and 59008)
Dated: August 28, 2001.
Herbert L. Mitchell,
Associate Administrator for Disaster Assistance.

[FR Doc. 01-22144 Filed 10-31-01; 8:45 am]

BILLING CODE 8025-01-P